DEPARTMENT OF HEALTH AND HUMAN SERVICES

Indian Health Service

Tribal Management Grant Program; Correction

AGENCY: Indian Health Service, HHS.

ACTION: Notice; correction.

SUMMARY: The Indian Health Service published a document in the Federal Register on July 3, 2014, for the FY 2014 Tribal Management Grant Program Announcement. Key information pertaining to Funding Restrictions was omitted.

FOR FURTHER INFORMATION CONTACT: Ms. Patricia Spotted Horse, Program Analyst, Office of Direct Service and Contracting Tribes, Indian Health Service, 801 Thompson Avenue, Suite 220, Rockville, MD 20852, Telephone (301) 443-1104. (This is not a toll-free number.)

Corrections

In the Federal Register of July 3, 2014, in FR Doc. 2014-15595, on page 38043, in the second column, under the heading 5. Funding Restrictions after the fourth bullet, the following language regarding Restrictions should be added:

• The TMG may not be used to support recurring operational programs or to replace existing public and private resources. Funding received under a recurring Public Law 93-638 contract cannot be totally supplanted or totally replaced. Exception is allowed to charge a portion or percentage of salaries of existing staff positions involved in implementing the TMG grant, if applicable. However, this percentage of TMG funding must reflect supplementation of funding for the project not supplantation of existing ISDEAA contract funds. Supplementation is “adding to a program” whereas supplantation is “taking the place of” funds. An entity cannot use the TMG funds to supplant the ISDEAA contract or recurring funding.

• Ineligible Project Activities—The inclusion of the following projects or activities in an application will render the application ineligible.

○ Planning and negotiating activities associated with the intent of a Tribe to enter the IHS Self-Governance Project. A separate grant program is administered by the IHS for this purpose. Prospective applicants interested in this program should contact Mrs. Anna Johnson, Program Analyst, Office of Tribal Self-Governance, Indian Health Service, Reyes Building, 801 Thompson Avenue, Suite 240, Rockville, Maryland 20852, (301) 443-7821, and request information concerning the “Tribal Self-Governance Program Planning Cooperative Agreement Announcement” or the “Negotiation Cooperative Agreement Announcement.”

○ Projects related to water, sanitation, and waste management.

○ Projects that include direct patient care and/or equipment to provide those medical services to be used to establish or augment or continue direct patient clinical care. Medical equipment that is allowable under the Special Diabetes Grant Program is not allowable under the TMG Program.

○ Projects that include recruitment efforts for direct patient care services.

○ Projects that include long-term care or provision of any direct services.

○ Projects that include tuition, fees, or stipends for certification or training of staff to provide direct services.

○ Projects that include pre-planning, design, and planning of construction for facilities, including activities relating to program justification documents.

○ Projects that propose more than one project type. Refer to Section II, “Award Information,” specifically “Eligible TMG Project Types, Maximum Funding Levels and Project Periods” for more information. An example of a proposal with more than one project type that would be considered ineligible may include the creation of a strategic health plan (defined by TMG as a planning project type) and improving third-party billing structures (defined by TMG as a health management structure project type). Multi-year applications that include in the first year planning, evaluation, or feasibility activities with the remainder of the project years addressing management structure are also deemed ineligible.

• Other Limitations—A current TMG recipient cannot be awarded a new, renewal, or competing continuation grant for any of the following reasons:

○ The grantee will be administering two TMGs at the same time or have overlapping project/budget periods;

○ The current project is not progressing in a satisfactory manner;

○ The current project is not in compliance with program and financial reporting requirements; or

○ The applicant has an outstanding delinquent Federal debt. No award shall be made until either:

The delinquent account is paid in full; or

A negotiated repayment schedule is established and at least one payment is received.

Dated: July 28, 2014.
Yvette Roubideaux,
Acting Director, Indian Health Service.

[FR Doc. 2014-18281 Filed 8-1-14; 8:45 am]

BILLING CODE 4165-16-P